FEDERAL COMMUNICATIONS COMMISSION

Notice of Public Information Collection(s) Being Reviewed by the Federal Communications Commission, Comments Requested

March 13, 2001.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before May 21, 2001. If you anticipate that you will be submitting comments, but find it difficult to do so within the period of time allowed by this notice, you should advise the contact listed below as soon as possible.

ADDRESSES: Direct all comments to Les Smith, Federal Communications Commissions, 445 12th Street, S.W., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control No.: 3060-0475.

Title: 90.713 Entry Criteria.

Form No.: N/A.

Type of Review: Extension.

Respondents: Individuals or households, Business or other for-profit and State, Local or Tribal Government.

Number of Respondents: 33.

Estimated Time Per Response: 25.5 hours (avg.).

Frequency of Response: On occasion.

Total Annual Burden: 842 hours.

Total Annual Cost: $0.

Needs and Uses: Section 90.713 of the Commission's rules requires applicants for nationwide systems in the 220-222 MHz bands to certify that they have an actual presence necessitating internal communications capacity in 70 or more markets identified in the application. The data will be used to determine the eligibility of the applicant to hold a radio station authorization. Commission licensing personnel will use the data for rulemaking proceedings and field engineers will use the data for enforcement purposes.

Federal Communications Commission.
Magalie Roman Salas,
Secretary.

[FR Doc. 01-6945 Filed 3-20-01; 8:45 am]

BILLING CODE 6712-01-P